DEPARTMENT OF AGRICULTURE

Forest Service

Humboldt Resource Advisory Committee (RAC)

AGENCY: Forest Service, USDA.

ACTION: Notice of meeting.

SUMMARY: The Humboldt Resource Advisory Committee (RAC) will meet in Eureka, California. The committee meeting is authorized under the Secure Rural Schools and Community Self-Determination Act (Pub. L. 110-343) and in compliance with the Federal Advisory Committee Act.

DATES: The meeting will be held August 10, 2010, from 5 p.m. to 7 p.m.

ADDRESSES: The meeting will be held at the Six Rivers National Forest Office, 1330 Bayshore Way, Eureka, CA 95501.

FOR FURTHER INFORMATION CONTACT: Julie Ranieri, Committee Coordinator, at (707) 441-3673; e-mail jranieri@fs.fed.us.

SUPPLEMENTARY INFORMATION: The meeting is open to the public. The purpose of the meeting is to develop the process and timeline for soliciting project proposals for funding under Title II of the Act and receive public comment on the meeting subjects and proceedings.

Dated: July 16, 2010.
Tyrone Kelley,
Forest Supervisor.

[FR Doc. 2010-18062 Filed 7-22-10; 8:45 am]

BILLING CODE 3410-11-P